DEPARTMENT OF THE INTERIOR

Fish and Wildlife Service

Information Collection Submitted to the Office of Management and Budget (OMB) for Renewal Under the Paperwork Reduction Act; 1018-0115; USFWS Training Records, Application for FWS Training Request

AGENCY: Fish and Wildlife Service, Interior.

ACTION: Notice; request for comments.

SUMMARY: We (Fish and Wildlife Service) have submitted to OMB a request to renew approval for information collection associated with our Training Application (FWS Form 3-2193). Applicants who wish to participate in training sponsored by the Fish and Wildlife Service National Conservation Training Center (NCTC) must complete a training application, which is available in both electronic (Internet) and hard copy versions.

DATES: You must submit comments on or before May 31, 2005.

ADDRESSES: Send your comments and suggestions on this information collection renewal to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request a copy of the information collection requirements, explanatory information, or related form, contact Hope Grey at the addresses above or by phone at (703) 358-2482.

SUPPLEMENTARY INFORMATION: OMB regulations at 5 CFR 1320, which implement provisions of the Paperwork Reduction Act of 1995 (44 U.S.C. 3501 et seq.), require that interested members of the public and affected agencies have an opportunity to comment on information collection and recordkeeping activities (see 5 CFR 1320.8(d)). Currently, we have approval from OMB to collect information related to FWS Form 3-2193 under OMB control number 1018-0115. This approval expires on April 30, 2005. We have submitted a request to OMB to renew approval for this information collection, and we are requesting a 3-year term of approval. Federal agencies may not conduct or sponsor and a person is not required to respond to a collection of information unless it displays a currently valid OMB control number. OMB has up to 60 days to approve or disapprove our information collection request, but may respond after 30 days. Therefore, to ensure that your comments receive consideration, send all comments and suggestions to OMB by the date listed in the DATES section.

The NCTC in Shepherdstown, West Virginia, provides natural resource and other professional training for Service employees, employees of other Federal agencies, and individuals with other affiliations. While most training is targeted for Service employees, NCTC offers slots to State agencies, university personnel, not-for-profit organizations, and members of the general public who request to be considered for training.

NCTC designed FWS Form 3-2193 (Training Application) as a quick and easy method for prospective students to request training. This collection has been in use for 3 years and is used in the daily workings of the NCTC. We encourage applicants to use FWS Form 3-2193 and to submit their requests electronically. NCTC uses data from the form to generate class rosters, class transcripts, and statistics, and as a budgeting tool for projecting training requirements. It is also used to track attendance, mandatory requirements, tuition, and invoicing for all NCTC sponsored courses both on- and off-site.

On January 21, 2005, we published in the Federal Register (70 FR 3221) a notice of our intent to request that OMB renew authority for this information collection. In that notice, we solicited public comments for 60 days, ending on March 22, 2005. We received one comment during this period. The comment was directed to the subject matter, validity, and necessity of the training and not at the need for the information collection. The commenter stated that training should be open to the public and believes that the training we provide is focused on guns, hunting, and violence proponents.

All training courses offered by the NCTC, with the exception of some bureau-specific courses, are open to members of the general public who have the required background experience or knowledge to allow their full understanding of the subject matter. Very few of our training courses have an emphasis on guns and hunting. Those courses that do touch on these subjects are presented in the context of refuge and wildlife management and law enforcement.

In September 2005, we conducted limited public outreach directed at various personnel who have completed FWS Form 3-2193 to request training at the NCTC. All respondents indicated that the information we collect is necessary and appropriate and that the reporting burden is not excessive. We have revised the currently approved form to: (1) Comply with Governmentwide policy regarding collection of Dun and Bradstreet numbers for agencies from which NCTC will need to collect funds, and (2) respond to the suggestions received during our outreach to provide more explanation for non-Federal employees.

Title: USFWS Training Records, Application for FWS Training Request.

OMB Control Number: 1018-0115.

Form Number: FWS Form 3-2193.

Frequency: When applying for training.

Description of Respondents: Persons who wish to participate in training given at or sponsored by the NCTC.

Total Annual Burden Hours: 60.33 hours.

Total Annual Responses: 724.

We invite your comments on (1) whether or not the collection of information is necessary for the proper performance of the functions of the agency, including whether or not the information will have practical utility; (2) the accuracy of the agency's estimate of the burden of the collection information; (3) ways to enhance the quality, utility, and clarity of the information to be collected; and (4) ways to minimize the burden of the collection of information on respondents.

Dated: April 14, 2005.
Hope Grey,
Information Collection Clearance Officer, Fish and Wildlife Service.

[FR Doc. 05-8481 Filed 4-27-05; 8:45 am]

BILLING CODE 4310-55-P